FEDERAL RESERVE SYSTEM

Change in Bank Control Notices, Acquisition of Shares of Bank or Bank Holding Companies; Correction

This notice corrects a notice (FR Doc. E7-9264) published on page 27311 of the issue for Tuesday, May 15, 2007.

Under the Federal Reserve Bank of St. Louis heading, the entry for Atwood Holdings Limited Partnership, Trezevant, Tennessee, is revised to read as follows:

A. Federal Reserve Bank of St. Louis (Glenda Wilson, Community Affairs Officer) 411 Locust Street, St. Louis, Missouri 63166-2034:

1. Atwood Holdings Limited Partnership, individually and as part of the Atwood Control Group which consists of George L. Atwood, as general partner, and Suzanne Atwood; to gain control of F & M Bancshares, Inc., and thereby indirectly gain control of Citizens City and County Bank, Trenton, and Farmer's and Merchants Bank, Trezevant, all of Tennessee.

Comments on this application must be received by May 30, 2007.

Board of Governors of the Federal Reserve System, May 17, 2007.
Jennifer J. Johnson,
Secretary of the Board.

[FR Doc. E7-9797 Filed 5-21-07; 8:45 am]

BILLING CODE 6210-01-S